DEPARTMENT OF COMMERCE

National Oceanic and Atmospheric Administration

50 CFR Part 679

[Docket No. 250312-0036; RTID 0648-XF421]

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod total allowable catch (TAC) from vessels using jig gear, to catcher vessels less than 60 feet (18.3 meters (m)) length overall (LOA) using hook-and-line or pot gear in the Bering Sea and Aleutian Islands (BSAI) management area. This action is necessary to allow the A season allowance of the 2026 TAC of Pacific cod to be harvested.

DATES: Effective December 29, 2025, through 2400 hours, Alaska local time (A.l.t.), December 31, 2026.

FOR FURTHER INFORMATION CONTACT: Andrew Olson, 907-586-7228.

SUPPLEMENTARY INFORMATION: NMFS manages the groundfish fishery in the BSAI according to the Fishery Management Plan for Groundfish of the Bering Sea and Aleutian Islands Management Area (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The A season allowance of the 2026 Pacific cod TAC specified for vessels using jig gear in the BSAI is 990 metric tons (mt) as established by the final 2025 and 2026 harvest specifications for groundfish in the BSAI (90 FR 12640, March 18, 2025) and inseason adjustment (90 FR 60025, December 23, 2025).

The 2026 Pacific cod TAC allocated to catcher vessels less than 60 feet (18.3 m) LOA using hook-and-line or pot gear in the BSAI is 2,342 mt as established by the final 2025 and 2026 harvest specifications for groundfish in the BSAI (90 FR 12640, March 18, 2025) and inseason adjustment (90 FR 60025, December 23, 2025).

The Administrator, Alaska Region, NMFS (the Administrator) has determined that jig vessels will not be able to harvest 930 mt of the A season allowance of the 2026 Pacific cod TAC allocated to those vessels under § 679.20(a)(7)(ii)(A)(1). The Administrator has also determined that catcher vessels less than 60 feet (18.3 m) LOA using hook-and-line or pot gear have the capability to harvest additional Pacific cod TAC.

Therefore, in accordance with § 679.20(a)(7)(iv)(C), NMFS reallocates 930 mt of Pacific cod from the A season jig gear allowance to the annual amount specified for catcher vessels less than 60 feet (18.3 m) LOA using hook-and-line or pot gear.

The harvest specifications for 2026 Pacific cod included in final 2025 and 2026 harvest specifications for groundfish in the BSAI (90 FR 12640, March 18, 2025) and inseason adjustment (90 FR 60025, December 23, 2025) are revised as follows: 60 mt to the A season allowance and 721 mt to the annual amount for vessels using jig gear, and 3,272 mt to catcher vessels less than 60 feet (18.3 m) LOA using hook-and-line or pot gear.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would not allow for the full harvest of the Pacific cod TACs by the sectors with harvesting capability. NMFS was unable to publish a notice providing time for public comment because the most recent, relevant data on the harvest of Pacific cod by sectors operating in the BSAI and the capability of certain sectors to harvest additional TAC only became available as of December 22, 2025.

There is also good cause under 5 U.S.C. 553(d)(3) to make this action effective immediately upon filing with the Office of the Federal Register. This finding is based upon the reasons provided above for waiver of prior notice and opportunity for public comment.

Authority: 16 U.S.C. 1801 et seq.

Dated: December 23, 2025.
Peter Cooper,
Acting Director, Office of Sustainable Fisheries, National Marine Fisheries Service.

[FR Doc. 2025-24020 Filed 12-29-25; 8:45 am]

BILLING CODE 3510-22-P